DEPARTMENT OF HEALTH AND HUMAN SERVICES

National Institutes of Health

Eunice Kennedy Shriver National Institute of Child Health and Human Development; Notice of Meeting

Pursuant to section 10(a) of the Federal Advisory Committee Act, as amended, notice is hereby given of a meeting of the National Advisory Board on Medical Rehabilitation Research.

The meeting will be held as a virtual meeting and is open to the public. Individuals who plan to view the virtual meeting and need special assistance, such as sign language interpretation or other reasonable accommodations, should notify the Contact Person listed below in advance of the meeting. The meeting will be videocast and can be accessed from the NIH Videocasting website (http://videocast.nih.gov).

Name of Committee: National Advisory Board on Medical Rehabilitation Research.

Date: December 5-6, 2022.

Time: December 5, 2022, 10:00 a.m. to 5:00 p.m.

Agenda: NICHD Director's report; NCMRR Director's report; Update from NABMRR Liaison to the NICHD Advisory Council; STRIVE Action Plan update; Report from NABMRR Research Infrastructure Working Group; Discussion of Stakeholder Engagement; Research Talk: Cognitive Rehabilitation and the use of Virtual Reality.

Place: Eunice Kennedy Shriver National Institute of Child, Health and Human Development, National Institutes of Health, 6710B Rockledge Drive, Room 2116, Bethesda, MD 20892-7510 (Virtual Meeting).

Time: December 6, 2022, 10:00 a.m. to 2:00 p.m.

Agenda: Updates from NIDILRR; NIH Policy Updates; Global Health and World Disability Day; Discussion on Telerehabilitation; Planning for Next Board Meeting in May 2023.

Place: Eunice Kennedy Shriver National Institute of Child, Health and Human Development, National Institutes of Health, 6710B Rockledge Drive, Room 2116, Bethesda, MD 20892-7510 (Virtual Meeting).

Contact Person: Ralph M. Nitkin, Ph.D., Deputy, National Center for Medical Rehabilitation, and Director, Biological Sciences and Career Development Program, Eunice Kennedy Shriver National Institute of Child Health and Human Development, National Institutes of Health, 6710B Rockledge Drive, Room 2116, Bethesda, MD 20892-7510, (301) 402-4206, nitkinr@mail.nih.gov.

Information is also available on the Institute's/Center's home page: https://www.nichd.nih.gov/about/advisory/nabmrr, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: October 24, 2022.
David W. Freeman,
Program Analyst, Office of Federal Advisory Committee Policy.

[FR Doc. 2022-23453 Filed 10-27-22; 8:45 am]

BILLING CODE 4140-01-P